DEPARTMENT OF HEALTH AND HUMAN SERVICES

Announcement of Requirements and Registration for “SMART-Indivo Challenge”

AGENCY: Office of the National Coordinator for Health Information Technology, HHS.

Award Approving Official: Farzad Mostashari, National Coordinator for Health Information Technology.

ACTION: Notice.

SUMMARY: A health care system adapting to the effects of an aging population, growing expenditures, and a diminishing primary care workforce needs the support of a flexible information infrastructure that facilitates innovation in wellness, health care, and public health. Flexibility is critical, since the system will have to function under new policies and in the service of new health care delivery mechanisms, and it will need to incorporate emerging information technologies on an ongoing basis.

SMART (Substitutable Medical Apps, Reusable Technologies, one of four Strategic Health IT Advanced Research Projects funded by the Office of the National Coordinator for Health Information Technology) capacitates innovation in health care by providing common APIs and standards for electronic medical records and personally controlled health records, enabling them to act as iPhone-like platforms; users can download or delete substitutable apps. Indivo enables individuals to own and manage a complete, secure, digital copy of their health and wellness information, integrated across sites of care and over time.

The “SMART-Indivo Challenge” is a call to developers to build an Indivo app that provides value to patients using data delivered through the SMART API and its Indivo-specific extensions.

The statutory authority for this challenge competition is Section 105 of the America COMPETES Reauthorization Act of 2010 (Pub. L. 111-358).

DATES: Effective on July 9, 2012. Challenge submission period ends September 28, 2012, 11:59 p.m. et.

FOR FURTHER INFORMATION CONTACT: Adam Wong, 202-720-2866; Wil Yu, 202-690-5920.

SUPPLEMENTARY INFORMATION:

Subject of Challenge Competition

SMART <http://www.smartplatforms.org> (Substitutable Medical Apps, Reusable Technologies) is one of four Strategic Health IT Advanced Research Projects (SHARP) funded by the Office of the National Coordinator for Health Information Technology http://healthit.hhs.gov/portal/server.pt?open=512&objID=1806&mode=2

A health care system adapting to the effects of an aging population, growing expenditures, and a diminishing primary care workforce needs the support of a flexible information infrastructure that facilitates innovation in wellness, health care, and public health. Flexibility is critical, since the system will have to function under new policies and in the service of new health care delivery mechanisms, and it will need to incorporate emerging information technologies on an ongoing basis. SMART capacitates innovation in health care by providing common APIs and standards for electronic medical records and personally controlled health records, enabling them to act as iPhone-like platforms; users can download or delete substitutable apps. Each app is entirely modular, and can thus be readily substituted with new apps that provide improved functionality and usability. Continuous innovation is the result.

Indivo <http://indivohealth.org> enables individuals to own and manage a complete, secure, digital copy of their health and wellness information, integrated across sites of care and over time. Indivo is entirely free and open-source, and is designed as a platform for apps: Built to be extended and customized. Using the SMART API and standards, augmented by functionality like sharing, developers can create powerful patient-facing applications. Its objective is to lower the barriers to creating apps for health, leaving developers to be able to focus on their ideas.

The “SMART-Indivo Challenge” is a call to developers to build an Indivo app that provides value to patients using data delivered through the SMART API and its Indivo-specific extensions. The app will be either an HTML5 Web app or an iOS app that runs against the Indivo Developer Sandbox, where it can access patient demographics, medications, laboratory tests, and diagnoses using Web standards. Developers could, for example, build a medication manager, a health risk detector, a patient-friendly laboratory visualization tool, or an app that integrates external data sources (see http://www.healthdata.gov/) with patient records in real time.

More information about SMART and Indivo APIs can be found at http://indivohealth.org/smart-indivo/.

Mobile HTML5 web app submissions are welcome, as are native applications built on SMART's iOS Framework.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

(9) Personnel of the SHARP program and their students are not eligible to compete for the prize.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should either:

• Access the www.challenge.gov Web site and search for the “SMART-Indivo Challenge”.

• Access the ONC Investing in Innovation (i2) Challenge Web site at:

○ http://www.health2con.com/devchallenge/challenges/onc-i2-challenges/.

○ A registration link for the challenge can be found on the landing page under the challenge description.

Amount of the Prize

• First Prize: $10,000

• Second Prize: $2,000

• Third Prize: $1,000

Awards may be subject to Federal income taxes and HHS will comply with IRS withholding and reporting requirements, where applicable.

Payment of the Prize

Prize will be paid by contractor.

Basis Upon Which Winner Will Be Selected

The review panel will make selections based upon the following criteria:

• Usefulness to patients

• Importance to clinical medicine or public health

• Interface and presentation

• Use of the Indivo and SMART APIs

• Creative use of data from the sandbox and (optionally) from open health data sources

Additional Information

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: June 28, 2012.
Farzad Mostashari,
National Coordinator for Health Information Technology.

[FR Doc. 2012-16819 Filed 7-9-12; 8:45 am]

BILLING CODE 4150-45-P